DEPARTMENT OF THE INTERIOR

National Park Service

[NPS-WASO-NRNHL-0911-8495; 2200-3200-665]

National Register of Historic Places; Notification of Pending Nominations and Related Actions

Nominations for the following properties being considered for listing or related actions in the National Register were received by the National Park Service before September 17, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by October 24, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Pima County

Marist College Historic District, 72 W. Ochoa St., Tucson, 11000760

LOUISIANA

East Baton Rouge Parish

Virginia Street Historic District, 4512-4642 Virginia & 4338 Florida Sts., Zachary, 11000761

MISSOURI

Jackson County

Milo Apartments, (Working-Class and Middle-Income Apartment Buildings in Kansas City, Missouri MPS), 1014-1020 W. 44th St., Kansas City, 11000763

Pendergast, Thomas J., Headquarters, 1908 Main St., Kansas City, 11000764

Washington County

Washington County Courthouse, 102 N. Missouri St., Potosi, 11000765

NEW HAMPSHIRE

Belknap County

Federal Building, 719 Main St., Laconia, 11000766

NORTH CAROLINA

Beaufort County

North Market Street Historic District, Roughly bounded by 15th, Nicholson & 6th Sts. & Summit Ave., Washington, 11000767

NORTH DAKOTA

Barnes County

Green Consolidated School, 39 R St., SE., Valley City, 11000768

OREGON

Linn County

Andrus, Jerry, House, 1638 1st Ave E., Albany, 11000769

Multnomah County

Portland Public Service Building, 1120 SW. 5th Ave., Portland, 11000770

Springdale School, 32405 E. Historic Columbia R. Hwy., Corbett, 11000771

WYOMING

Johnson County

Blue Gables Motel, (Motor Courts and Motels in Wyoming MPS), 662 N. Main St., Buffalo, 11000772

In the interest of preservation, the comment period for the following resource has been shortened to three (3) days:

MISSISSIPPI

Harrison County

Gulfport Harbor Square Commercial Historic District, Roughly between 23rd & 28th Aves., 13th St. & 25th Ave. to jct. with 17th St., Gulfport, 11000762

Request for REMOVAL has been received for the following resource:

MISSISSIPPI

Harrison County

Harbor Square Historic District, Roughly bounded by L & N Railroad, 23rd Ave., 13th St. and 27th Ave., Gulfport, 85001788

[FR Doc. 2011-25968 Filed 10-6-11; 8:45 am]

BILLING CODE 4312-51-P